DEPARTMENT OF HOMELAND SECURITY

Coast Guard

33 CFR Part 165

[Docket No. USCG-2017-0260]

Safety Zone; Oakmont Yacht Club/Oakmont Yacht Club Fireworks, Allegheny River, Miles 12.0 to 12.5, Oakmont, PA

AGENCY: Coast Guard, DHS.

ACTION: Notice of enforcement of regulation.

SUMMARY: The Coast Guard will enforce the subject safety zone for the Oakmont Yacht Club/Oakmont Yacht Club Fireworks on the Allegheny River on July 22, 2017, to provide for the safety of persons and vessels on navigable waters during the fireworks display. Our regulation for Recurring Safety Zones in Captain of the Port Ohio Valley Zone identifies the regulated area for this regatta. During the enforcement period, entry into, transiting, or anchoring in the safety zone is prohibited to all vessels not registered with the sponsor as participants or official patrol vessels, unless specifically authorized by the Captain of the Port Marine Safety Unit Pittsburgh (COTP) or a designated representative.

DATES: The regulations in the first table in 33 CFR 165.801, No. 46 will be enforced from 9 p.m. until 11 p.m. on July 22, 2017.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the Safety Zone for the annual Oakmont Yacht Club/Oakmont Yacht Club Fireworks listed in the regulations in the first table in 33 CFR 165.801, No. 46 from 9 p.m. to 11 p.m. on July 22, 2017. Entry into the safety zone is prohibited unless authorized by the Captain of the Port Marine Safety Unit Pittsburgh (COTP) or a designated representative. Persons or vessels desiring to enter into or passage through the safety zone must request permission from the COTP or a designated representative. If permission is granted, all persons and vessels shall comply with the instructions of the COTP or designated representative.

This notice of enforcement is issued under authority of 33 CFR 165.801 and 5 U.S.C. 552(a). In addition to this notice of enforcement in the Federal Register, the Coast Guard will provide the maritime community with advance notification of these enforcement periods via Local Notice to Mariners and updates via Marine Information Broadcasts.

Dated: June 19, 2017.
L. McClain, Jr.,
Commander, U.S. Coast Guard, Captain of the Port Marine Safety Unit Pittsburgh.

[FR Doc. 2017-13398 Filed 6-26-17; 8:45 am]

BILLING CODE 9110-04-P